DEPARTMENT OF TRANSPORTATION

National Highway Traffic Safety Administration

[Docket Number DOT-NHTSA-2018-0075]

Notice and Request for Comments

AGENCY: National Highway Traffic Safety Administration (NHTSA), Department of Transportation (DOT).

ACTION: Notice and request for comments.

SUMMARY: The Department of Transportation (DOT) invites public comments about our intention to request the Office of Management and Budget (OMB) approval to renew an information collection. Before a Federal agency can collect certain information from the public, it must receive approval from the Office of Management and Budget (OMB). Under procedures established by the Paperwork Reduction Act of 1995, before seeking OMB approval, Federal agencies must solicit public comment on proposed collections of information, including extensions and reinstatement of previously approved collections.

DATES: Comments must be received on or before September 21, 2018.

ADDRESSES: You may submit comments [identified by Docket No. DOT-NHTSA-2018-0075] through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Ruby Li, Office of Traffic Records and Analysis, Mathematical Analysis Division, (NSA-210), W55-208, 1200 New Jersey Avenue SE, Washington, DC 20590. Ms. Li's telephone number is (202) 366-6736. Please identify the relevant collection of information by referring to its OMB Control Number.

SUPPLEMENTARY INFORMATION:

Title: The National Survey of the Use of Booster Seats.

OMB Control Number: 2127-0644.

Type of Request: Collection of observed child restraint use data.

Abstract: The National Survey of the Use of Booster Seats is conducted to respond to Section 14(i) of the Transportation Recall Enhancement, Accountability, and Documentation (TREAD) Act of 2000. The Act directs the Department of Transportation to reduce deaths and injuries (among children in the 4- to 8-year old age group that are caused by failure to use a booster seat) by twenty-five percent. Conducting the National Survey of the Use of Booster Seats provides the Department with invaluable information on use and non-use of booster seats, helping the Department to improve its outreach programs to ensure that children are protected to the greatest extent possible when they ride in motor vehicles. The OMB approval for this survey is scheduled to expire on 5/31/19. NHTSA seeks an extension to this approval to obtain this important survey data, save more children, and help to comply with the TREAD Act requirement.

Affected Public: Motorists in passenger vehicles at gas stations, fast food restaurants, and other types of sites frequented by children during the time in which the survey is conducted.

Estimated Number of Respondents: Approximately 4,800 adult motorists in passenger vehicles at gas stations, fast food restaurants, and other types of sites frequented by children during the time in which the survey is conducted.

Frequency: Every other year.

Estimated Total Annual Burden Hours: 340 hours.

Estimated Total Annual Burden Cost: $8,276.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. chapter 35, as amended; and 49 CFR 1:48.

Terry T. Shelton,
Associate Administrator, National Center for Statistics and Analysis.

[FR Doc. 2018-15694 Filed 7-20-18; 8:45 am]

BILLING CODE 4910-59-P